DEPARTMENT OF COMMERCE

International Trade Administration

[A-489-501]

Circular Welded Carbon Steel Pipes and Tubes From Turkey; Amended Final Results of Antidumping Duty Administrative Review; 2010 to 2011

AGENCY: Import Administration, International Trade Administration, Department of Commerce.

SUMMARY: On December 6, 2012, the Department of Commerce (the Department) published its final results of the administrative review of the antidumping duty order on circular welded carbon steel pipes and tubes from Turkey for the period of review (POR) May 1, 2010, through April 30, 2011.¹ We are amending our final results to correct a ministerial error made in the calculation of the weighted-average dumping margin for the Borusan Group (Borusan),² pursuant to section 751(h) of the Tariff Act of 1930, as amended (the Act).

¹ See Circular Welded Carbon Steel Pipes and Tubes from Turkey; Final Results of Antidumping Duty Administrative Review; 2010 to 2011, 77 FR 72818 (December 6, 2012) (Final Results).

² The Borusan Group includes the following entities: Borusan Mannesmann Boru Sanayi ve Ticaret A.S., Borusan Birlesik Boru Fabrikalari San ve Tic., Borusan Istikbal Ticaret T.A.S., Boruson Gemlik Boru Tesisleri A.S., Borusan Ihracat Ithalat ve Dagitim A.S., Borusan Ithicat ve Dagitim A.S., and Tubeco Pipe and Steel Corporation. See Final Results, 77 FR at 72818.

DATES: Effective Date: January 3, 2013.

FOR FURTHER INFORMATION CONTACT: Christopher Hargett, AD/CVD Operations, Office 3, Import Administration, International Trade Administration, U.S. Department of Commerce, 14th Street and Constitution Avenue NW., Washington, DC 20230; telephone: (202) 482-4161.

SUPPLEMENTARY INFORMATION:

Background

On December 5, 2012, pursuant to 19 CFR 351.224(c), Borusan alleged that the Department committed a ministerial error and requested that the Department correct this error.³ Specifically, Borusan alleged that the margin program contains a programming error in identifying the month of sale for U.S. sales with the result that U.S. sales are matched first to home market sales in a month outside of the 90-60 day window.⁴

³ See Letter to the Department from Borusan entitled “Ministerial Error Allegation Submitted on Behalf of Borusan Mannesmann Boru Sanayi ve Ticaret A.S.,” dated December 5, 2012.

⁴ See id. at 2-3.

On December 10, 2012, U.S. Steel Corporation (U.S. Steel) submitted comments on Borusan's ministerial error allegation.⁵ In its submission, U.S. Steel contends that, if the Department accepts Borusan's proposed changes to the margin calculations, the Department also should make an additional modification to the margin program to ensure that the targeted dumping analysis is performed correctly.⁶

⁵ See Letter to the Department from U.S. Steel regarding the ministerial error allegation submitted by Borusan, dated December 10, 2012.

⁶ See id. at 2.

Scope of the Order

The products covered by the order include circular welded non-alloy steel pipes and tubes, of circular cross-section, not more than 406.4 millimeters (16 inches) in outside diameter, regardless of wall thickness, surface finish (black, galvanized, or painted), or end finish (plain end, beveled end, threaded and coupled). Those pipes and tubes are generally known as standard pipe, though they may also be called structural or mechanical tubing in certain applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.⁷

⁷ For the complete scope of this review, see Certain Welded Carbon Steel Pipe and Tube From Turkey: Notice of Final Results of Antidumping Duty Administrative Review, 76 FR 76939 (December 9, 2011).

Amended Final Results of Review

After analyzing Borusan's comments, we have determined, in accordance with section 751(h) of Act and 19 CFR 351.224, that the Department made a ministerial error in the calculation for Borusan regarding the assignment of the sales month for U.S. and home market sales.⁸ In particular, the Department correctly stated in the final results that, consistent with our practice, we implemented certain changes to include home market sales starting on November 1, 2009; however, in so doing, we did not implement these changes to the U.S. sales data such that sales made in contemporaneous months in the home market and U.S. market would be matched for calculation of the weighted average dumping margin.⁹ Therefore, the Department finds that it made a clerical error when it inadvertently failed to subtract home market sales prices from U.S. sales prices made in contemporaneous months to calculate the weighted-average dumping margin. The Department also finds that U.S. Steel is correct that the margin program must be updated to ensure that the targeted dumping analysis is performed correctly.¹⁰ The Department has now corrected these errors and, consequently, Borusan's final weighted-average dumping margin.

⁸ See Analysis Memorandum for the Borusan Group, dated concurrently with this notice (Borusan Calc Memo).

⁹ See Final Results, 77 FR at 72818, and accompanying Issues and Decision Memorandum at Comment 2.

¹⁰ See Borusan Calc Memo.

In accordance with section 751(h) of the Act, we are amending the final results of the antidumping duty administrative review of circular welded carbon steel pipes and tubes from Turkey for the period May 1, 2010, through April 30, 2011. As a result of correcting the ministerial error discussed above, the following weighted-average dumping margin applies:

Exporter/ manufacturer | Final weighted-average dumping margin (percent) | Amended final weighted-average dumping margin (percent)
Borusan | 6.05 | 3.55

Assessment

Pursuant to section 751(a)(2)(A) of the Act and 19 CFR 351.212(b), the Department will determine, and CBP shall assess, antidumping duties on all appropriate entries of subject merchandise in accordance with the amended final results of this review. The Department intends to issue assessment instructions to CBP 15 days after the date of publication of these amended final results of review.

For assessment purposes, the Department applied the assessment rate calculation method adopted in Antidumping Proceedings: Calculation of the Weighted-Average Dumping Margin and Assessment Rate in Certain Antidumping Proceedings: Final Modification, 77 FR 8101 (February 14, 2012).

We calculated importer-specific rates based on the ratio of the total amount of dumping calculated for the examined sales for a given importer to the total entered value of such sales. If an importer-specific assessment rate is zero or de minimis (i.e., less than 0.50 percent), the Department will instruct CBP to liquidate that importer's entries of subject merchandise without regard to antidumping duties, in accordance with 19 CFR 351.106(c)(2).

The Department clarified its “automatic assessment” regulation on May 6, 2003.¹¹ This clarification will apply to entries of subject merchandise during the POR produced by companies included in these amended final results of review for which the reviewed companies did not know their merchandise was destined for the United States. In such instances, we will instruct CBP to liquidate unreviewed entries at the country-specific, all-others rate established in the less-than-fair-value (“LTFV”) investigation if there is no rate for the intermediate company(ies) involved in the transaction.

¹¹ See Antidumping and Countervailing Duty Proceedings: Assessment of Antidumping Duties, 68 FR 23954 (May 6, 2003).

Cash Deposit Requirements

The following cash deposit requirements will be effective upon publication of this notice of amended final results of the administrative review for all shipments of subject merchandise entered or withdrawn from warehouse, for consumption, on or after the publication date, as provided by section 751(a)(2)(C) of the Act: (1) For Borusan, the cash deposit rate will be the rate listed above; (2) for all other companies, the cash deposit rate will be the respective rates established in the final results.¹² These cash deposit requirements, when imposed, shall remain in effect until further notice.

¹² See Final Results, 77 FR at 72820.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent increase in antidumping duties by the amount of antidumping duties reimbursed.

Notification to Interested Parties

This notice serves as the only reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

We are issuing and publishing these amended final results of administrative review and notice in accordance with sections 751(a)(1) and (h), and 777(i)(1) of the Act.

Dated: December 26, 2012.
Lynn Fischer Fox,
Deputy Assistant Secretary for Policy and Negotiations.

[FR Doc. 2012-31638 Filed 1-2-13; 8:45 am]

BILLING CODE 3510-DS-P